DEPARTMENT OF THE INTERIOR

National Park Service

[NPS-WASO-NAGPRA-NPS0032978; PPWOCRADN0-PCU00RP14.R50000]

Notice of Inventory Completion: Baylor University's Mayborn Museum Complex (Formerly Baylor Museum's Strecker Museum Complex; Formerly Baylor University Museum)

AGENCY: National Park Service, Interior.

ACTION: Notice.

SUMMARY: Baylor University's Mayborn Museum Complex has completed an inventory of human remains and associated funerary objects, in consultation with the appropriate Indian Tribes or Native Hawaiian organizations and has determined that there is no cultural affiliation between the human remains and associated funerary objects and any present-day Indian Tribes or Native Hawaiian organizations. Representatives of any Indian Tribe or Native Hawaiian organization not identified in this notice that wish to request transfer of control of these human remains and associated funerary objects should submit a written request to Baylor University's Mayborn Museum Complex. If no additional requestors come forward, the human remains and associated funerary objects may be reinterred.

DATES: Representatives of any Indian Tribe or Native Hawaiian organization not identified in this notice that wish to request transfer of control of these human remains and associated funerary objects should submit a written request with information in support of the request to Baylor University's Mayborn Museum Complex at the address in this notice by December 8, 2021.

FOR FURTHER INFORMATION CONTACT: Anita L. Benedict, Baylor University's Mayborn Museum Complex, One Bear Place #97154, Waco, TX 76798-7154, telephone (254) 710-4835, email anita_benedict@baylor.edu.

SUPPLEMENTARY INFORMATION: Notice is here given in accordance with the Native American Graves Protection and Repatriation Act (NAGPRA), 25 U.S.C. 3003, of the completion of an inventory of human remains and associated funerary objects under the control of the Baylor University's Mayborn Museum Complex, Waco, TX. The human remains and associated funerary objects were removed from unknown locations in Texas, and an unknown geographic location.

This notice is published as part of the National Park Service's administrative responsibilities under NAGPRA, 25 U.S.C. 3003(d)(3) and 43 CFR 10.9(e). The determinations in this notice are the sole responsibility of the museum, institution, or Federal agency that has control of the Native American human remains and associated funerary objects. The National Park Service is not responsible for the determinations in this notice.

Consultation

A detailed assessment of the human remains was made by Baylor University's Mayborn Museum Complex professional staff in consultation with representatives of the Absentee-Shawnee Tribe of Indians of Oklahoma; Caddo Nation of Oklahoma; Comanche Nation, Oklahoma; Delaware Nation, Oklahoma; Delaware Tribe of Indians; Jicarilla Apache Nation, New Mexico; Kiowa Indian Tribe of Oklahoma; Mescalero Apache Tribe of the Mescalero Reservation, New Mexico; The Osage Nation [previously listed as Osage Tribe]; Tonkawa Tribe of Indians of Oklahoma; Wichita and Affiliated Tribes (Wichita, Keechi, Waco, & Tawakonie), Oklahoma; and the Ysleta del Sur Pueblo [previously listed as Ysleta del Sur Pueblo of Texas].

An invitation to consult was extended to the Alabama-Coushatta Tribe of Texas [previously listed as Alabama-Coushatta Tribes of Texas]; Alabama-Quassarte Tribal Town; Apache Tribe of Oklahoma; Cherokee Nation; Cheyenne and Arapaho Tribes, Oklahoma [previously listed as Cheyenne-Arapaho Tribes of Oklahoma]; Comanche Nation, Oklahoma; Coushatta Tribe of Louisiana; Eastern Band of Cherokee Indians; Eastern Shawnee Tribe of Oklahoma; Fort McDowell Yavapai Nation, Arizona; Fort Sill Apache Tribe of Oklahoma; Jena Band of Choctaw Indians; Kialegee Tribal Town; Kickapoo Traditional Tribe of Texas; Kickapoo Tribe of Indians of the Kickapoo Reservation in Kansas; Kickapoo Tribe of Oklahoma; Miccosukee Tribe of Indians; Mississippi Band of Choctaw Indians; Northern Arapaho Tribe of the Wind River Reservation, Wyoming [previously listed as Arapaho Tribe of the Wind River Reservation, Wyoming]; Northern Cheyenne Tribe of the Northern Cheyenne Indian Reservation, Montana; Poarch Band of Creek Indians [previously known as the Poarch Band of Creeks, and as the Poarch Band of Creek Indians of Alabama]; San Carlos Apache Tribe of the San Carlos Reservation, Arizona; Seminole Tribe of Florida [previously listed as Seminole Tribe of Florida (Dania, Big Cypress, Brighton, Hollywood, & Tampa Reservations)]; Shawnee Tribe; The Chickasaw Nation; The Choctaw Nation of Oklahoma; The Muscogee (Creek) Nation; The Seminole Nation of Oklahoma; Thlopthlocco Tribal Town; Tonto Apache Tribe of Arizona; Tunica-Biloxi Indian Tribe; United Keetoowah Band of Cherokee Indians in Oklahoma; White Mountain Apache Tribe of the Fort Apache Reservation, Arizona; and the Yavapai-Apache Nation of the Camp Verde Indian Reservation, Arizona.

The Tribes identified above are hereafter referred to as “The Consulted and Notified Indian Tribes.”

History and Description of the Remains

Prior to 1974, human remains representing, at minimum, five individuals were removed from an unknown location in Central or North Central Texas. The human remains and an associated funerary object were collected by an amateur archeologist. On August 5, 1974, the human remains and funerary object were donated to the Star of the Republic Museum. On October 25, 1993, the Star of the Republic Museum transferred them to the Strecker Museum. The individuals (AR 20807; AR 20917; AR 20918; AR 20919; AR 20920) are of indeterminate age and sex. No known individuals were identified. The one associated funerary object is a lot of shells, rocks, and pieces of chert (AR 20921).

Prior to 1940, human remains representing, at minimum, one individual was removed from an unknown location in Texas. The human remains and associated funerary object were collected by H. Grady Moore. The individual (AR 16526) is a child of indeterminate sex. No known individual was identified. The one associated funerary object is one animal bone fragment (AR 16532).

Prior to 1940, human remains representing, at minimum, five individuals were removed from an unknown location in Texas. The human remains were collected by H. Grady Moore. The individuals (AR 20845; AR 20925; AR 20846; AR 20923; AR 20924) are of indeterminate age and sex. No known individuals were identified. No associated funerary objects are present.

On unknown dates, human remains representing, at minimum, two individuals were removed from an unknown location in Central Texas. The human remains were likely excavated by Frank H. Watt. In 1981, Frank Watt gave permission for the portion of his collection located at the Texas Archaeological Research Laboratory (TARL) to be transferred to Baylor University (under the care of Dr. John Fox), or Dr. Fox may have acquired them from the Watt's estate after Watt's passing in 1981. Dr. John Fox was a member of Baylor University's Anthropology Department faculty. In 1985, Dr. John Fox transferred the human remains to the Strecker Museum. The individuals (AR 20836; AR 20841) are of indeterminate age and sex. No known individuals were identified. No associated funerary objects are present.

On unknown dates, human remains representing, at minimum, two individuals were removed from an unknown location in Central Texas. The human remains were likely excavated by Frank H. Watt. In 1981, Frank Watt gave permission for the portion of his collection located at the Texas Archaeological Research Laboratory (TARL) to be transferred to Baylor University where it would become part of Dr. John Fox's teaching collection. Dr. Fox was a member of Baylor University's Anthropology Department faculty. In 1991, Dr. Fox transferred the human remains to the Strecker Museum. The human remains were part of the Frank H. Watt collection, acquired from his estate or the TARL. The human remains are those of one male aged five to 13 years (AR 20837) and one female aged 10 to 11 years (AR 20838). No known individuals were identified. No associated funerary objects are present.

On unknown dates, human remains representing, at minimum, one individual, were removed from an unknown location in Central Texas. The human remains were likely excavated by Frank H. Watt. In 1995, they were transferred from the Texas Archaeological Research Laboratory (TARL) to the Strecker Museum. The human remains (AR 20840) are of indeterminate age and sex. No known individual was identified. No associated funerary objects are present.

On unknown dates, human remains representing, at minimum, three individuals, were removed from an unknown location in Central Texas. The human remains were likely excavated by Frank H. Watt. In 1981, Frank Watt gave permission for the portion of his collection located at the Texas Archaeological Research Laboratory (TARL) to be transferred to Baylor University (under the care of Dr. John Fox), or Dr. Fox may have acquired them from the Watt's estate after Watt's passing in 1981. Dr. Fox was a member of Baylor University's Anthropology Department faculty. On an unknown date, Dr. John Fox transferred the human remains to the Strecker Museum. The human remains are those of one sub-adult of indeterminate sex (AR 20827) and two individuals of indeterminate age and sex (AR 20831; AR 20842). No known individuals were identified. The two associated funerary objects are one lot of animal bone fragments (AR 20929) and one lot of shells (AR 20929).

Prior to 1961, human remains representing, at minimum, one individual were removed from an unknown geographic location. According to accession paperwork, in 1983 children found a coffin, containing a partial skeleton, in the backyard of Mrs. Mary O'Neal, in Waco, Texas. Mrs. O'Neal said her deceased husband purchased the “Indian” bones and the old casket about 10-15 years prior to 1961. She put them in the backyard in 1961. She told the police she did not want them, so the police took them. The police called the Museum and asked if the Strecker Museum wanted them. Calvin Smith, then Associate Director, went to the police station to accept them and the coffin. The current location of the coffin is unknown. The individual (AR 12779-A-UU) is of indeterminate age and sex. No known individual was identified. No associated funerary objects are present.

On an unknown date, human remains representing, at minimum, 20 individuals were removed from an unknown geographic location by an unknown individual. The individuals (AR 20814; AR 20815; AR 20816; AR 20817; AR 20818; AR 20819; AR 20820; AR 20822; AR 20824; AR 20826; AR 20828; AR 20829; AR 20832; AR 20833; AR 20834; AR 20835; AR 20839; AR 20848) are of indeterminate age and sex. Two of the individuals (AR 20926; AR 20821) are sub-adults of indeterminate sex. No known individuals were identified. No associated funerary objects are present.

On an unknown date, human remains representing, at minimum, one individual were removed from an unknown geographic location by an unknown individual. The individual (AR 20823) is of indeterminate age and sex. No known individual was identified. The one associated funerary object is a lot of mixed materials including snail shells, freshwater mollusks, glass fragment, small limestone rock, fragments non-human bone, and 4 unidentified bones fragments (AR 20927).

On an unknown date, human remains representing, at minimum, one individual were removed from an unknown geographic location by an unknown individual. The individual (AR 20825) is of indeterminate age and sex. No known individual was identified. The one associated funerary object is an animal bone (AR 20928).

Based on the available information, the land from which these human remains and associated funerary objects were removed is not the “tribal land” of an Indian Tribe or a Native Hawaiian organization, or the “aboriginal land” of an Indian Tribe pursuant to 43 CFR 10.11.

Pursuant to 25 U.S.C. 3006(c)(5) and 43 CFR 10.10(g)(2)(ii) and 10.16(a), the Native American Graves Protection and Repatriation Review Committee (Review Committee) may make a recommendation to the Secretary of the Interior (Secretary) for specific actions for disposition of any human remains and associated funerary objects not already addressed in 43 CFR 10.11. In June 2021, Baylor University's Mayborn Museum Complex requested that the Review Committee consider a proposal for the reinterment according to State or other law of the human remains and associated funerary objects described in this notice. The Review Committee carefully considered this request at its July 13, 2021 meeting and recommended to the Secretary that the proposed reinterment proceed. An October 19, 2021 letter transmitted the Secretary's independent review and concurrence with the Review Committee that:

• Baylor University's Mayborn Museum Complex consulted with every appropriate Indian Tribe,

• none of The Consulted and Notified Indian Tribes objected to the proposed re-interment, and

• Baylor University's Mayborn Museum Complex may proceed with the proposed re-interment of the human remains and associated funerary objects.

Reinterment is contingent on the publication of a Notice of Inventory Completion in the Federal Register. This notice fulfills that requirement.

Determinations Made by Baylor University's Mayborn Museum Complex

Officials of Baylor University's Mayborn Museum Complex have determined that:

• Pursuant to 25 U.S.C. 3001(9), the human remains described in this notice are Native American based on museum records, the collecting history of the Museum, and the scope of the collection.

• Pursuant to 25 U.S.C. 3003(e), the human remains described in this notice represent the physical remains of 42 individuals of Native American ancestry.

• Pursuant to 25 U.S.C. 3001(3)(A), the six objects described in this notice are reasonably believed to have been placed with or near individual human remains at the time of death or later as part of the death rite or ceremony.

• Pursuant to 25 U.S.C. 3001(2), a relationship of shared group identity cannot be reasonably traced between the human remains and associated funerary objects and any present-day Indian Tribe.

• Pursuant to 43 CFR 10.11, the land from which these human remains and associated funerary objects were removed is not the “tribal land” of any Indian Tribe or a Native Hawaiian organization, or the “aboriginal land” of any Indian Tribe.

• Pursuant to 43 CFR 10.10(g)(2)(ii) and 10.16, the human remains and associated funerary objects will be reinterred according to State or other law.

Additional Requestors and Disposition

Representatives of any Indian Tribe or Native Hawaiian organization not identified in this notice that wish to request transfer of control of these human remains and associated funerary objects should submit a written request with information in support of the request to Anita L. Benedict, Baylor University's Mayborn Museum Complex, One Bear Place #97154, Waco, TX 76798-7154, telephone (254) 710-4835, email anita_benedict@baylor.edu, by December 8, 2021. After that date, if no additional requestors have come forward, the human remains and associated funerary objects may be reinterred.

Baylor University's Mayborn Museum Complex is responsible for notifying The Consulted and Notified Indian Tribes that this notice has been published.

Dated: October 29, 2021.
Melanie O'Brien,
Manager, National NAGPRA Program.

[FR Doc. 2021-24314 Filed 11-5-21; 8:45 am]

BILLING CODE 4312-52-P